ENVIRONMENTAL PROTECTION AGENCY

[EPA-HQ-OW-2014-0135; FRL_9910-81-OW]

Updated National Recommended Water Quality Criteria for the Protection of Human Health

AGENCY: Environmental Protection Agency (EPA).

ACTION: Notice of Availability.

SUMMARY: EPA is announcing the availability of draft updated national recommended water quality criteria for the protection of human health for the purpose of obtaining public comments. EPA has updated its national recommended water quality criteria for human health for ninety-four chemical pollutants to reflect the latest scientific information and current EPA policies. This draft update is based on EPA's current methodology for deriving human health criteria as described in “Methodology for Deriving Ambient Water Quality Criteria for the Protection of Human Health (2000)” and does not establish new policy. EPA's recommended water quality criteria provide technical information for States and authorized Tribes to establish water quality standards under the Clean Water Act to protect human health.

DATES: The public comment period begins on May 13, 2014 and ends on July 14, 2014. Technical comments should be submitted to the public EPA docket by July 14, 2014.

ADDRESSES: Submit your comments, identified by Docket ID No. EPA-HQ-OW-2014-0135, by one of the following methods:

• www.regulations.gov: Follow the on-line instructions for submitting comments.

• Mail: Water Docket, Environmental Protection Agency, 28221T, 1200 Pennsylvania Ave., NW., Washington, DC 20460. Attention Docket ID No. EPA-HQ-OW-2014-0135.

• Hand Delivery: Water Docket, EPA Docket Center, EPA WJC West Building Room 3334, 1301 Constitution Ave. NW., Washington, DC, 20004, Attention Docket EPA-HQ-OW-2014-0135. Deliveries to the docket are accepted only during their normal hours of operation: 8:30 a.m. to 4:30 p.m., Monday through Friday, excluding legal holidays. For access to docket materials, call (202) 566-2426, to schedule an appointment.

• Email: ow-docket@epa.gov; Attention Docket No. EPA-HQ-OW-2014-0135. To ensure that EPA can properly respond to comments, commenters should cite the section(s) or chemical(s) in draft updates to which each comment refers. Commenters should use a separate paragraph for each issue discussed, and must submit any references cited in their comments. If you submit an electronic comment, EPA recommends that you include your name and other contact information in the body of your comment. Electronic files should avoid any form of encryption and should be free of any defects or viruses.

Instructions: Direct your comments to Docket ID No. EPA-HQ-OW-2014-0135. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Heidi Bethel at U.S. EPA, Office of Water, Health and Ecological Criteria Division (Mail Code 4304T), 1200 Pennsylvania Avenue NW., Washington, DC 20460; telephone: (202) 566-2054; or email: bethel.heidi@epa.gov.

SUPPLEMENTARY INFORMATION:

I. What should I consider as I prepare my comments for EPA?

In preparation for submitting comments for EPA on this action, please review the draft chemical-specific support documents EPA is publishing (1) in the public docket for this action under Docket ID No. EPA-HQ-OW-2014-0135, or (2) on EPA's Web site http://water.epa.gov/scitech/swguidance/standards/criteria/current/hhdraft.cfm. Provide EPA with comments regarding scientific views related to the draft updated national recommended water quality criteria for protecting human health. Include any recommended references for data or other scientific information to be considered by EPA.

II. What are recommended water quality criteria?

EPA's recommended water quality criteria are scientifically derived numeric values that protect aquatic life or human health from the deleterious effects of pollutants in ambient water.

Section 304(a)(1) of the Clean Water Act (CWA) requires EPA to develop and publish and, from time to time, revise, criteria for protection of water quality and human health that accurately reflect the latest scientific knowledge. Water quality criteria developed under section 304(a) are based solely on data and scientific judgments on the relationship between pollutant concentrations and environmental and human health effects. Section 304(a) criteria do not reflect consideration of economic impacts or the technological feasibility of meeting pollutant concentrations in ambient water.

EPA's recommended Section 304(a) criteria provide technical information to States and authorized Tribes in adopting water quality standards that ultimately provide a basis for assessing water body health and controlling discharges or releases of pollutants. Under the CWA and its implementing regulations, States and authorized Tribes are to adopt water quality criteria to protect designated uses (e.g., public water supply, aquatic life, recreational use, or industrial use). EPA's recommended water quality criteria do not substitute for the CWA or regulations, nor are they regulations themselves. Thus, EPA's recommended criteria do not impose legally binding requirements. States and authorized Tribes have the discretion to adopt, where appropriate, other scientifically defensible water quality criteria that differ from these recommendations.

III. What are the updated criteria?

Today, EPA is publishing draft updated national recommended water quality criteria for the protection of human health for ninety-four chemical pollutants. These revisions are based on EPA's current methodology for deriving human health criteria (See: Methodology for Deriving Ambient Water Quality Criteria for the Protection of Human Health (2000), EPA-822-B-00-004, October 2000). The methodology describes EPA's current approach for deriving national recommended water quality criteria for the protection of human health.

The revision of these criteria represents a systematic update of EPA's national recommended 304(a) criteria. EPA has previously described its process for publishing revised criteria [see National Recommended Water Quality Criteria—Correction (64 FR 19781; or EPA 822-Z-99-001) or the Federal Register Notice for EPA's 2000 Methodology (65 FR 66444)]. EPA is announcing the availability of the updated human health criteria in today's Notice in order to solicit scientific views. EPA has updated the draft human health criteria using information sources and models that have previously undergone external peer review. A fact sheet and a summary of updated input parameters (e.g., cancer slope factor, reference dose, and bioaccumulation factors) used to derive the updated criteria was prepared to assist reviewers. EPA has also developed chemical-specific support documents for each of the ninety-four chemical pollutants. The support documents detail the latest scientific information supporting the updated draft human health criteria, particularly the updated toxicity and exposure input values. All of these documents are available in the docket (EPA-HQ-OW-2014-0135) and on EPA's Web site http://water.epa.gov/scitech/swguidance/standards/criteria/current/hhdraft.cfm.

IV. What is the relationship between the draft national recommended water quality criteria and your state or tribal water quality standards?

As part of the water quality standards triennial review process defined in section 303(c)(1) of the CWA, the States and authorized Tribes are responsible for maintaining and revising water quality standards. Water quality standards consist of designated uses, water quality criteria to protect those uses, a policy for antidegradation, and may include general policies for application and implementation. Section 303(c)(1) requires States and authorized Tribes to review and modify, if appropriate, their water quality standards at least once every three years.

States and authorized Tribes must adopt water quality criteria that protect designated uses. Protective criteria are based on a sound scientific rationale and contain sufficient parameters or constituents to protect the designated uses. Criteria may be expressed in either narrative or numeric form. States and authorized Tribes have four options when adopting water quality criteria for which EPA has published section 304(a) criteria. They can:

(1) Establish numerical values based on recommended section 304(a) criteria;

(2) Adopt section 304(a) criteria modified to reflect site specific conditions;

(3) Adopt criteria derived using other scientifically defensible methods; or

(4) Establish narrative criteria where numeric criteria cannot be determined (40 CFR 131.11).

EPA believes that it is important for States and authorized Tribes to consider any new or updated 304(a) criteria as part of their triennial review to ensure that state or tribal water quality standards reflect current science and protect applicable designated uses. These updated criteria recommendations may change based on scientific views shared in response to this notice, but once final they would supersede EPA's previous recommendations.

Consistent with 40 CFR 131.21, new or revised water quality criteria adopted into law or regulation by States and authorized Tribes on or after May 30, 2000 are in effect for CWA purposes only after EPA approval.

Dated: April 29, 2014.
Nancy K. Stoner,
Acting Assistant Administrator, Office of Water.

[FR Doc. 2014-10963 Filed 5-12-14; 8:45 am]

BILLING CODE 6560-50-P